DEPARTMENT OF TRANSPORTATION

Federal Railroad Administration

[Docket Number FRA-2020-0096]

Notice of Petition for Modification of Waiver of Compliance

AGENCY: Federal Railroad Administration (FRA), Department of Transportation (DOT).

ACTION: Notice.

SUMMARY: This document provides the public notice that Brightline West (BW) petitioned FRA for a modification of relief from certain regulations concerning Tier III rolling stock for passenger service.

DATES: FRA must receive comments on the petition by December 19, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Harold Weisinger, Railroad Safety Specialist, FRA Motive Power & Equipment Division, telephone: 202-493-0036, email: harold.weisinger@dot.gov.

SUPPLEMENTARY INFORMATION: Under part 211 of title 49 Code of Federal Regulations (CFR), this document provides the public notice that by letter dated July 24, 2025, BW petitioned FRA for a modification of an existing waiver of compliance from certain provisions of the Federal railroad safety regulations contained at 49 CFR parts 229, Railroad Locomotive Safety Standards, and 238, Passenger Equipment Safety Standards. The relevant Docket Number is FRA-2020-0096.

The existing relief in this docket pertains to BW's Tier III rolling stock it plans to utilize for new passenger service from Las Vegas, Nevada, to Southern California. BW explains that, with certain exceptions, the rolling stock will comply with FRA's standards related to Tier III equipment, including the requirements FRA proposed on April 3, 2023.¹ While the proposals in that Notice of Proposed Rulemaking are still being finalized, BW requests relief from existing §§ 229.83, 238.121, and 238.123 regarding insulation or ground of metal parts, emergency communication, and emergency roof access.

¹ 63 FR 19730.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by December 19, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-20286 Filed 11-18-25; 8:45 am]

BILLING CODE 4910-06-P